DEPARTMENT OF AGRICULTURE

Submission for OMB Review; Comment Request

January 23, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by February 28, 2014 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Phytophthora Ramorum; Quarantine and Regulations.

OMB Control Number: 0579-0310.

Summary of Collection: Under the Plant Protection Act (7 U.S.C. 7701 et seq.), the Secretary of Agriculture, either independently or in cooperation with the States, is authorized to carry out operations or measures to detect, eradicate, suppress, control, prevent, or retard the spread of plant pest new to the United States or not widely distributed throughout the United States. Under “Subpart-Phytophthora Ramorum” (7 CFR 301.92 through 301.92-12, referred to as the regulation), USDA's Animal and Plant Health Inspection Service (APHIS) restricts the interstate movement of certain regulated and restricted articles from quarantined areas in California and Oregon and regulated areas from California, Oregon, and Washington to prevent the artificial spread of Phytophthora ramorum, the pathogen that causes the plant disease commonly known as sudden oak death, ramorum left blight, and ramorum dieback.

Need and Use of the Information: APHIS will collect information through a compliance agreement to establish restrictions on the interstate movement of nursery stock from nurseries in non-quarantined counties in California, Oregon, and Washington. If California, Oregon, and Washington State did not comply with provisions by signing a compliance agreement, P. ramorum would have the potential to spread to eastern forests adversely impacting the ecosystem balances, foreign/domestic nursery stocks, and lumber markets.,

Description of Respondents: Business or other for-profit.

Number of Respondents: 1,505.

Frequency of Responses: Recordkeeping; Reporting: On occasion,

Total Burden Hours: 2,132.

Ruth Brown,
Departmental Information Collection Clearance Officer.

[FR Doc. 2014-01699 Filed 1-28-14; 8:45 am]

BILLING CODE 3410-34-P